DEPARTMENT OF THE INTERIOR

National Park Service

General Management Plan, Final Environmental Impact Statement, Big Bend National Park, TX

AGENCY: National Park Service, Department of Interior.

ACTION: Notice of availability of the Final Environmental Impact Statement for the General Management Plan, Big Bend National Park.

SUMMARY: Pursuant to section 102(2)(C) of the National Environmental Policy Act of 1969, 42 U.S.C. 4332(C), the National Park Service announces the availability of a Final Environmental Impact Statement for the General Management Plan, Big Bend National Park, Texas.

DATES: The National Park Service will execute a Record of Decision (ROD) no sooner than 30 days following publication by the Environmental Protection Agency of the notice of availability of the Final Environmental Impact Statement.

ADDRESSES: Information will be available for public inspection in the office of John H. King, Superintendent, Big Bend National Park, Park Headquarters, Panther Junction, P.O. Box 129, Big Bend National Park, Texas, 79834, telephone: (432) 477-1101.

FOR FURTHER INFORMATION CONTACT: John Paige, National Park Service, Denver Service Center, Planning Division, 12795 West Alameda Parkway, P.O. Box 25287, Denver, CO 80225-0287, telephone: (303) 969-2356

Dated: April 29, 2004.
Michael D. Snyder,
Deputy Director, Intermountain Region, National Park Service.

[FR Doc. 04-15577 Filed 7-8-04; 8:45 am]

BILLING CODE 4312-52-P